DEPARTMENT OF COMMERCE

International Trade Administration

[A-357-812]

Honey From Argentina: Extension of Time Limit for the Final Results of Antidumping Duty Administrative Review

AGENCY: Import Administration, International Trade Administration, Department of Commerce.

DATES: Effective Date: May 15, 2012.

FOR FURTHER INFORMATION CONTACT: John Drury or Angelica Mendoza, AD/CVD Operations, Office 7, Import Administration, International Trade Administration, U.S. Department of Commerce, 14th Street and Constitution Avenue NW., Room 7850, Washington, DC 20230; telephone: (202) 482-0195, or (202) 482-3019, respectively.

SUPPLEMENTARY INFORMATION:

Background

On January 10, 2012, the Department published the preliminary results of administrative review for the 2009-2010 period of review (POR) of honey from Argentina. See Honey From Argentina: Preliminary Results of Antidumping Duty Administrative Review and Partial Rescission of Antidumping Duty Administrative Review, 77 FR 1458 (January 10, 2012) (Preliminary Results). The administrative review covers nine producers/exporters of honey from Argentina during the POR.¹

¹ See Preliminary Results for a detailed history of the companies covered by this administrative review.

Extension of Time Limit for Final Results

Section 751(a)(3)(A) of the Tariff Act of 1930, as amended (the Act), requires the Department to issue final results within 120 days after the date on which the preliminary results are published. However, if it is not practicable to complete the review within this time period, section 751(a)(3)(A) of the Act allows the Department to extend the time period to a maximum of 180 days after the date on which the preliminary results are published.

The Department has determined it is not practicable to complete this review within the current time limit and requires additional time regarding the issue of which rate to assign to the non-selected companies subject to this review. Accordingly, the Department is extending the time limit for completion of the final results of this administrative review by 30 days (i.e., to June 8, 2012).

We are issuing and publishing this notice in accordance with sections 751(a)(1) and 777(i)(1) of the Act.

Dated: May 4, 2012.
Christian Marsh,
Deputy Assistant Secretary for Antidumping and Countervailing Duty Operations.

[FR Doc. 2012-11771 Filed 5-14-12; 8:45 am]

BILLING CODE 3510-DS-P